DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before May 15, 2023. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Michael Reim, michael.reim@nuclear.energy.gov, (202) 748-3383.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Titled: Survey of High-Assay, Low-Enriched Uranium (HALEU) Needs for Civilian Domestic Research, Development, Demonstration, and Commercial Use.;

(3) Type of Review: New;

(4) Purpose: The purpose of this survey is to inform the planning and development of a Department of Energy (DOE) HALEU Availability Program. Section 2001 of The Energy Act of 2020 (Pub. L. 116-260, Dec. 27, 2020) authorizes the Secretary to establish and carry out, through the Office of Nuclear Energy (NE), a program to support the availability of HALEU for civilian domestic research and development, demonstration, and commercial use. The Act authorizes multiple actions to facilitate the development of a commercial HALEU supply chain including a biennial survey of stakeholders to estimate the quantity of HALEU necessary for domestic commercial use, establishing a consortium of fuel cycle entities to partner with DOE in making HALEU available, and to provide HALEU to consortium members during development of commercial domestic sources. NE is developing plans to establish the HALEU Availability Program to implement these and other directed actions, including those related to HALEU fuel fabrication, enrichment, and transportation.

(5) Annual Estimated Number of Respondents: 25;

(6) Annual Estimated Number of Total Responses: 25;

(7) Annual Estimated Number of Burden Hours: 200;

(8) Annual Estimated Reporting and Recordkeeping Cost Burden: $13,376.

HALEU is defined as uranium enriched between 5 and 20 percent uranium-235, and HALEU enriched between 10-20 percent will be required by several advanced reactor designs currently under development. Multiple stakeholders will require HALEU for commercial and research purposes in the coming years, including advanced reactor designers, traditional nuclear fuel and nuclear reactor vendors, Advanced Reactor Demonstration Program awardees, and other companies and organizations engaged in nuclear research and development.

For stakeholders that plan to utilize HALEU enriched between 5 and 20 percent, please provide the following information:

(1) A short summary of the stakeholder's planned commercial and research needs for HALEU including:

a. The type of reactor system or facilities that would use the fuel,

b. Projections regarding the number of reactors or facilities, and

c. Current status and future plans for licensing and regulatory milestones,

d. Plans for U.S. and international deployment.

(2) The number of metric tons of uranium required per year (MTU/yr) where the year listed is the delivery date of HALEU required for fuel fabrication or fuel qualification experiments.

(3) The specific enrichment percentage or range of enrichment percentages required between 5 and 20 percent.

(4) The chemical and physical form of HALEU required (metal, oxide, etc.).

Table 1—HALEU Needs by Year
| 2023 | 2024 | 2025 | 2026 | 2027 | 2028-2032 | 2033-2037
MTU/yr
Specific enrichment % or range of enrichment required between 5-20%

(5) For small quantity requests of HALEU of 50 kgU or less please provide:

a. An individual point of contact for resolving questions related to the request (name, organization, title, email address, phone number).

b. Quantity requested (in kilograms), enrichment level, and form (e.g., UF6, metal, oxide, other).

c. Desired delivery date(s) for HALEU. Provide multiple dates and quantities if that would be the case to support multiple experiments over time.

d. How will the HALEU be used? Briefly describe the fuel form, fabrication, and experiments to be conducted. Provide a schedule.

e. Is this activity associated with an existing public-private partnership or cost-shared agreement? If so, please identify the agreement.

f. Describe your capabilities, experience, and financing that will enable you to use the HALEU for the intended purpose on the schedule provided.

g. Describe your progress in achieving the following:

i. Regulatory approvals

ii. Fabrication services

iii. Access to experimental facilities

iv. Capabilities to ship/receive HALEU

v. Any other areas that are required to execute your plans.

h. Provide detailed material specifications for the HALEU including contamination and purity limits.

i. Provide any other requirements that would be important for us to know in processing your request.

Statutory Authority: Section 2001 of The Energy Act of 2020 (Pub. L. 116-260, Dec. 27, 2020).

Signing Authority

This document of the Department of Energy was signed on April 7, 2023, by Jon Carmack, Deputy Assistant Secretary for Nuclear Fuel Cycle and Supply Chain, Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 11, 2023.
Treena V. Garrett,
Federal Register Liaison Officer, U.S. Department of Energy.

[FR Doc. 2023-07900 Filed 4-13-23; 8:45 am]

BILLING CODE 6450-01-P